DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments or modifications.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Jennifer Skidmore (Permit No. 21329 and 21217-01), Shasta McClenahan (Permit No. 22272), Sara Young (Permit No. 21719), Erin Markin (Permit Nos. 21327 and 22123), Amy Hapeman (Permit Nos. 17312-01 and 18238-01), and Courtney Smith (Permit No. 16239-03); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
16239-03 | 0648-XC268 | Dan Engelhaupt, Ph.D., HDR, 4173 Ewell Road, Virginia Beach, VA, 23455 | 83 FR 21765; May 10, 2018 | September 26, 2018.
17312-01 | 0648-XC268 | Scripps Institution of Oceanography, University of California, 8635 Discovery Way, La Jolla, CA 92093 (Responsible Party: John Hildeband, Ph.D.) | 83 FR 21765; May 10, 2018 | September 12, 2018.
18238-01 | 0648-XG302 | NMFS Southwest Fisheries Science Center, 8901 La Jolla Shores Drive, La Jolla, CA 92037 (Responsible Party: Lisa Balance, Ph.D.) | 83 FR 33209; July 17, 2018 | September 20, 2018.
21217-01 | 0648-XF696 | Aaron Roberts, Ph.D., University of North Texas, Biological Sciences, 1155 Union Circle, #310559, Denton, TX 76203 | 83 FR 38287; August 6, 2018 | September 20, 2018.
21327 | 0648-XG302 | Raymond Carthy, Ph.D., Florida Cooperative Fish and Wildlife Research Unit—USGS BRD, University of Florida, P.O. Box 110485, Gainesville, FL 23611-0450 | 83 FR 33209; July 17, 2018 | September 20, 2018.
21329 | 0648-XG345 | John P. Wise, Sr., Ph.D., University of Louisville, Department of Pharmacology, 500 S Preston St., Suite 1319, Louisville, KY 40202 | 83 FR 34118; July 19, 2018 | September 7, 2018.
21719 | 0648-XG094 | NMFS Northeast Fisheries Science Center, 166 Water Street, Woods Hole, MA 02543-1097 (Responsible Party: John Hare, Ph.D.) | 83 FR 26009; June 5, 2018 | September 19, 2018.
21858 | 0648-XG332 | NMFS Greater Atlantic Regional Fisheries Office, 55 Great Republic Drive, Gloucester, MA 01930 | 83 FR 31736; July 9, 2018 | September 7, 2018.
22123 | 0648-XG302 | Jeffrey Schmid, Ph.D., Conservancy of Southwest Florida, 1495 Smith Preserve Way, Naples, FL 34102 | 83 FR 33209; July 17, 2018 | September 20, 2018.
22272 | 0648-XG343 | Shaw Institute, 55 Main Street, Blue Hill, ME 04614 (Responsible Party: Susan Shaw) | 83 FR 33924; July 18, 2018 | September 7, 2018.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: October 18, 2018.
Julia Marie Harrison,
Chief, Permits and Conservation Division, Office of Protected Resources, National Marine Fisheries Service.

[FR Doc. 2018-23077 Filed 10-22-18; 8:45 am]

BILLING CODE 3510-22-P